DEPARTMENT OF HOMELAND SECURITY

[Docket No. USCBP-2011-0009]

Advisory Committee on Commercial Operations of Customs and Border Protection (COAC)

AGENCY: U.S. Customs and Border Protection.

ACTION: Committee Management; Notice of Federal Advisory Committee Meeting.

SUMMARY: The Advisory Committee on Commercial Operations of Customs and Border Protection (COAC) will meet on April 12, 2011 in Washington, DC. The meeting will be open to the public.

DATES: COAC will meet on Tuesday, April 12, 2011, from 1 p.m. to 5 p.m. Please note that the meeting may close early if the committee has completed its business. If you plan on attending, please register either online at https://apps.cbp.gov/te_registration/?w=47, or by e-mail to tradeevents@dhs.gov by close-of-business on April 6, 2011.

ADDRESSES: The meeting will be held at the Ronald Reagan Building in the Polaris Room, at 1300 Pennsylvania Avenue, NW., Washington, DC 20229. All visitors to the Ronald Reagan Building must show a state-issued ID or Passport to proceed through the security checkpoint to be admitted to the building.

For information on facilities or services for individuals with disabilities or to request special assistance at the meeting, contact Ms. Wanda Tate as soon as possible.

To facilitate public participation, we are inviting public comment on the issues to be considered by the committee as listed in the “Summary” section below. Comments must be submitted in writing no later than April 6, 2011 and must be identified by USCBP-2011-0009 and may be submitted by one of the following methods:

• Federal eRulemaking Portal: http://www.regulations.gov. Follow the instructions for submitting comments.

• E-mail: Tradeevents@dhs.gov. Include the docket number in the subject line of the message.

• Fax: 202-325-4290.

• Mail: Ms. Wanda Tate, Office of Trade Relations, U.S. Customs and Border Protection, 1300 Pennsylvania Avenue, NW., Room 5.2A, Washington, DC 20229.

Instructions: All submissions received must include the words “Department of Homeland Security” and the docket number for this action. Comments received will be posted without alteration at http://www.regulations.gov, including any personal information provided.

Docket: For access to the docket to read background documents or comments received by the COAC, go to http://www.regulations.gov.

A public comment period will be held during the meeting on April 12, 2011 from 4:25 pm to 4:55 pm, and speakers are requested to limit their comments to 3 minutes. Please note that the public comment period may end before the time indicated, following the last call for comments. Contact the individual listed below to register as a speaker.

FOR FURTHER INFORMATION CONTACT: Ms. Wanda Tate, Office of Trade Relations, U.S. Customs and Border Protection, Department of Homeland Security, 1300 Pennsylvania Avenue, NW., Room 5.2A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury.

Agenda

The COAC will meet to review and discuss next steps on the following issues:

1. Managing by Account: Center of Excellence and Expertise (CEE) and Account Executive Pilots

2. The Role of the Broker, A Broker Revision Project

3. One U.S. Government at the Border—Interagency Issues

4. Automation/International Trade Data System

5. Enhancing Air Cargo Security

6. National Strategy Global Supply Chain Security and the Secretary's work to foster international standards and cooperation

7. Enhancing Intellectual Property Rights Enforcement Efforts

8. Risk Based Bonding and Risk Factors

Dated: March 22, 2011.
Maria Luisa O'Connell,
Senior Advisor for Trade and Public Engagement, Office of Trade Relations.

[FR Doc. 2011-7163 Filed 3-25-11; 8:45 am]

BILLING CODE 9111-14-P